DEPARTMENT OF THE INTERIOR

Bureau of Land Management

[BLM_NV_FRN_MO4500178495]

Notice of Availability of the Draft Resource Management Plan Amendment and Associated Programmatic Environmental Impact Statement for the Esmeralda Seven Solar Projects, Esmeralda County, Nevada

AGENCY: Bureau of Land Management, Interior.

ACTION: Notice of availability.

SUMMARY: In compliance with the National Environmental Policy Act of 1969, as amended (NEPA), and the Federal Land Policy and Management Act of 1976, as amended (FLPMA), the Bureau of Land Management (BLM) Nevada State Director has prepared a draft Resource Management Plan (RMP) Amendment with an associated Programmatic Environmental Impact Statement (PEIS) for seven adjacent solar photovoltaic projects proposed on BLM-administered public lands in Esmeralda County, Nevada. This notice announces the opening of the 90-day comment period and provides the planning criteria for public review.

DATES: All comments on the draft RMP Amendment and PEIS must be received by October 24, 2024 or 15 days after the last public meeting, whichever is later.

ADDRESSES: You may submit comments on issues and planning criteria related to the RMP Amendment and associated PEIS by any of the following methods:

• BLM's National NEPA Register (ePlanning) at: https://eplanning.blm.gov/eplanning-ui/project/2020804/510.

• Email: BLM_NV_BMDO_P&EC_NEPA@blm.gov.

• Fax: (775) 635-4034.

• Mail: BLM, Battle Mountain District Office, 50 Bastian Road, Battle Mountain, NV 89820.

Documents pertinent to this proposal may be examined online at: https://eplanning.blm.gov/eplanning-ui/project/2020804/510.

FOR FURTHER INFORMATION CONTACT: For further information and/or to have your name added to the mailing list, please send requests to: Scott Distel, Supervisory Project Manager, at telephone (775) 635-4093; address: 50 Bastian Road, Battle Mountain, NV 89820; or email: sdistel@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: This document provides notice that the BLM Nevada State Director has prepared a draft RMP Amendment with an associated PEIS for the Esmeralda Seven Solar Projects in Esmeralda County, Nevada, announces the beginning of the draft PEIS review process, and seeks public input on issues and planning criteria. The RMP Amendment would change the existing 1997 Tonopah Field Office Record of Decision and Approved RMP. The RMP Amendment is being considered to change the management direction for visual resources and slope to allow for the consideration of the proposed solar development projects.

The planning area is in Esmeralda County, Nevada, and encompasses approximately 118,630.9 acres of BLM-administered public lands.

Purpose and Need

The BLM's purpose for this Federal action is to respond to the solar projects' FLPMA right-of-way applications submitted under Title V of FLPMA (43 U.S.C. 1761) and to amend the visual and slope management direction in the Tonopah RMP in compliance with the FLPMA BLM right-of-way regulations (43 Code of Federal Regulations [CFR] 2800) and other applicable Federal and State laws and policies. In accordance with FLPMA, there is a need to consider the long-term needs of future generations for renewable and non-renewable resources in the context of the multiple resource objectives in the Tonopah RMP planning area.

Preliminary Alternatives

Under Alternative A, the Proposed Action, there would be the potential for the development of seven utility-scale photovoltaic solar facilities within the planning area. The proposed projects include the development of photovoltaic solar facilities, including solar arrays, energy storage, roads, and electric generation intertie (gen-tie) lines within the seven solar ROWs, as outlined in each project's plan of development.

Alternative B, the Soils and Vegetation Conservation Alternative, would be the same as the Proposed Action; however, there would be no amendment to the Tonopah RMP to change the slope requirement for the planning area to a maximum of 10 percent. Development on slopes greater than 5 percent would be based on the additional slope criteria outlined in the 2012 Solar PEIS Record of Decision (ROD). In addition, applicants would limit traditional construction grading methods, which remove all vegetation and compact the soil, to a maximum of 35 percent of the proposed development area. Applicants would use mowing in the rest of the development area to leave vegetation intact. In mowed areas, vegetation would be mowed to a height of 24 inches but no less than 18 inches, where justified.

Under Alternative C, the No Action Alternative, the BLM would not authorize the RMP Amendment or select an action alternative. Future solar development in the planning area would require separate NEPA analyses and reviews that would not tier to this PEIS or ROD. In addition, future development could be constrained by the existing visual resources management classifications or slope requirements.

Planning Criteria

The planning criteria serve as a guide for the planning effort and lay the groundwork for effects analysis by identifying the preliminary issues and their analytical frameworks. The planning criteria are available for public review and comment on the BLM's National NEPA Register (ePlanning) website (see ADDRESSES).

Summary of Expected Impacts

Through the RMP Amendment and PEIS, the BLM would change the visual and slope management direction in the Tonopah RMP and consider best management practices for use in future analyses of the individual projects. Prior to decisions on the individual solar projects, subsequent site-specific NEPA analysis would be required. Preliminary issues for the planning area have been identified by BLM personnel and from feedback received during early engagement conducted for this planning effort with Federal, State, and local agencies; Tribes; and stakeholders; as well as through the public scoping process. The PEIS analyzes the effects of the proposed changes in RMP management direction, the cumulative effects of the seven proposed solar projects, and the implementation of design features on:

• Air Resources

• Biological Resources

• Cultural and Native American Concerns

• Hydrologic Resources

• Socioeconomics and Environmental Justice

• Visual Resources

Schedule for the Decision-Making Process

The BLM will provide opportunities for public participation consistent with the NEPA and land use planning processes for a 90-day comment period on the draft RMP Amendment and PEIS. The Final PEIS is anticipated to be available for public protest in the last quarter of 2024, with an Approved RMP Amendment and Record of Decision in the first quarter of 2025.

Public Process

One in-person and one virtual public meeting will be held. The location and dates of the meetings and information on how to participate will be announced at least 15 days in advance through the BLM's National NEPA Register (ePlanning) web page (see ADDRESSES) and applicable local newspapers.

This notice of availability initiates the public review of the planning criteria, draft RMP Amendment, and draft PEIS.

Through the review process, the BLM is requesting input on the environmental analysis, alternatives, and issues that are analyzed, including measures to minimize and/or avoid adverse environmental impacts, and any other information relevant to the proposed area of effect.

Lead and Cooperating Agencies

The BLM Battle Mountain District Office is the lead agency for this RMP Amendment and PEIS. The Nevada Department of Wildlife, the U.S. Fish and Wildlife Service—Ecological Services, the U.S. Fish and Wildlife Service—Migratory Birds Program, the U.S. Environmental Protection Agency, and the Esmeralda County Board of County Commissioners have agreed to participate in this environmental analysis as cooperating agencies. Several Tribes, including the Moapa Band of Paiutes, have also requested to participate in the environmental analysis and may potentially agree to become cooperating agencies. Additional agencies and organizations may be identified as potential cooperating agencies to participate in the environmental analysis for the RMP Amendment and PEIS.

Responsible Official

The BLM Nevada State Director is the deciding official for this planning effort.

Nature of Decision To Be Made

The nature of the decision to be made will be the BLM Nevada State Director's selection of land use planning decisions for managing BLM-administered public lands under the principles of multiple use and sustained yield in a manner that best addresses the purpose and need.

Interdisciplinary Team

The BLM has used an interdisciplinary approach to develop the RMP Amendment to consider the variety of resource issues and concerns identified. Specialists with expertise in the following disciplines were involved in this planning effort: geology and soils, vegetation and noxious and invasive species, wildlife, hydrology, air quality, minerals, paleontology, visual resources, cultural resources, socioeconomics and environmental justice, public health and safety, land use and recreation, special designations, and others deemed necessary based on the results of the scoping process.

Additional Information

The BLM will identify, analyze, and consider mitigation to address the reasonably foreseeable effects to resources from the proposed RMP Amendment and all analyzed reasonable alternatives and, in accordance with 40 CFR 1502.14(e), include appropriate mitigation measures not already included in the draft RMP Amendment or alternatives. Mitigation may include avoidance, minimization, rectification, reduction or elimination over time, and compensation; and may be considered at multiple scales, including the landscape scale.

The BLM is utilizing and coordinating the NEPA and land use planning processes for this planning effort to help support compliance with applicable procedural requirements under the Endangered Species Act (16 U.S.C. 1536), as well as section 106 of the National Historic Preservation Act (54 U.S.C. 306108) as provided in 36 CFR 800.2(d)(3), including public involvement requirements of section 106. The information about threatened and endangered species and historic and cultural resources within the area potentially affected by the proposed plan assists the BLM in identifying and evaluating impacts to such resources.

The BLM has consulted and will continue to consult with Native American Tribes on a government-to-government basis in accordance with Executive Order 13175, BLM MS-1780, and other Departmental policies. Tribal concerns, including impacts on Indian trust assets and potential impacts to cultural resources, are being given due consideration. Federal, State, and local agencies, along with Native American Tribal Nations and other stakeholders that may be interested in or affected by the draft RMP Amendment and PEIS that the BLM is evaluating, have been invited to participate in the environmental review process and, if eligible, have been requested by the BLM to participate in the development of the environmental analysis as a cooperating agency.

Before including your address, phone number, email address, or other personal identifying information in your comment, you should be aware that your entire comment—including your personal identifying information—may be made publicly available at any time. While you can ask us in your comment to withhold your personal identifying information from public review, we cannot guarantee that we will be able to do so.

(Authority: 40 CFR 1501.7, 43 CFR 1610.2, and 43 CFR 2800)

Kimberly Prill,
Acting State Director.

[FR Doc. 2024-16280 Filed 7-25-24; 8:45 am]

BILLING CODE 4331-21-P